DEPARTMENT OF STATE

Updating the State Department's List of Entities and Subentities Associated With Cuba (Cuba Restricted List); Correction

ACTION: Updated publication of list of entities and subentities; notice; correction.

SUMMARY: The Department of State published a document in the Federal Register of June 12, 2020, concerning an update to its List of Restricted Entities and Subentities Associated with Cuba (Cuba Restricted List). The document contained one omission from the list.

FOR FURTHER INFORMATION CONTACT: Emily Belson, Office of Economic Sanctions Policy and Implementation, 202-647-6526; Robert Haas, Office of the Coordinator for Cuban Affairs, tel.: 202-453-8456, Department of State, Washington, DC 20520.

SUPPLEMENTARY INFORMATION:

Correction

In the Federal Register of June 12, 2020, in FR Doc. 2020-12746, on page 35974, in the third column, correct subheading “Additional Subentities of CIMEX” to include “FINCIMEX Effective [DATE PUBLISHED IN Federal Register]” on a line after “ECUSE — Empresa Cubana de Servicios” and before “Inmobiliaria CIMEX (Real Estate).”

Zachary A. Parker,
Director, Office of Directives Management, Department of State.

[FR Doc. 2020-13192 Filed 6-18-20; 8:45 am]

BILLING CODE 4710-29-P